DEPARTMENT OF EDUCATION

Office of Postsecondary Education; Overview Information Student Support Services (SSS) Program; Notice Inviting Applications for New Awards for Fiscal Year (FY) 2005

Catalog of Federal Domestic Assistance (CFDA) Number: 84.042A.

Dates: Applications Available: July 20, 2004.

Deadline for Transmittal of Applications: August 31, 2004.

Deadline for Intergovernmental Review: September 7, 2004.

Eligible Applicants: Institutions of higher education or combinations of institutions of higher education.

Estimated Available Funds: The Administration has requested $266,557,000 for this program for FY 2005. The actual level of funding, if any, depends on final congressional action. However, we are inviting applications to allow enough time to complete the grant process if Congress appropriates funds for this program.

Estimated Range of Awards: $220,000-$350,000.

Estimated Average Size of Awards: $280,000.

Maximum Award: We will not fund any application at an amount exceeding the maximum amounts specified below for a single budget period of 12 months. All successful applicants will be required to meet all of the goals and objectives proposed in their applications regardless of whether those proposed goals and objectives were based on budgets that exceeded the maximum amounts.

• For an applicant who is not currently receiving a SSS Program grant, the maximum award amount is—$220,000 for a project that will serve a minimum of 160 student participants; $220,000 for a project that will serve only individuals with disabilities; and $170,000 or an amount equal to $1,375 per student participant, whichever is greater, for a project that will serve less than 160 student participants.

• For an applicant who is currently receiving a SSS Program grant the maximum award amount is—the greater of (a) $220,000, or (b) an amount equal to 103 percent of the applicant's prior grant award amount for FY 2003 or FY 2004. For applicant institutions of higher education who received individual grants in the last competition and have since merged into one institution the maximum award amount is—an amount equal to 103 percent of either their combined FY 2003 grant award amounts or their combined FY 2004 grant award amounts, whichever is greater. The Assistant Secretary for Postsecondary Education may increase the maximum grant award to current SSS Program grantees to an amount equal to 105 percent of either their FY 2003 or FY 2004 grant award amount, whichever is greater, without further notice. The Assistant Secretary may increase the maximum grant award to more than 105 percent through a notice published in the Federal Register.

Estimated Number of Awards: 975.

Note: The Department is not bound by any estimates in this notice.

Project Period: Up to 60 months.

I. Funding Opportunity Description

Purpose of Program: The purpose of the SSS Program is to increase the number of disadvantaged low-income college students, first generation college students, and college students with disabilities in the United States who successfully complete a program of study at the postsecondary level of education. The support services provided should increase their retention and graduation rates, facilitate their transfer from two-year to four-year colleges, and foster an institutional climate supportive of their success.

Program Authority: 20 U.S.C. 1070a-11 and 20 U.S.C. 1070a-14.

Applicable Regulations: (a) The Education Department General Administrative Regulations (EDGAR) in 34 CFR parts 74, 75, 77, 79, 80, 81, 82, 84, 85, 86, 97, 98 and 99. (b) The regulations for this program in 34 CFR part 646.

Note: The regulations in 34 CFR part 79 apply to all applicants except federally recognized Indian Tribes.

Note: The regulations in 34 CFR part 86 apply to institutions of higher education only.

II. Award Information

Type of Award: Discretionary grants.

Estimated Available Funds: The Administration has requested $266,557,000 for this program for FY 2005. The actual level of funding, if any, depends on final congressional action. However, we are inviting applications to allow enough time to complete the grant process if Congress appropriates funds for this program.

Estimated Range of Awards: $220,000-$350,000.

Estimated Average Size of Awards: $280,000.

Maximum Award: We will not fund any application at an amount exceeding the maximum amounts specified below for a single budget period of 12 months. All successful applicants will be required to meet all of the goals and objectives proposed in their applications regardless of whether those proposed goals and objectives were based on budgets that exceeded the maximum amounts.

• For an applicant who is not currently receiving a SSS Program grant, the maximum award amount is—$220,000 for a project that will serve a minimum of 160 student participants; $220,000 for a project that will serve only individuals with disabilities; and $170,000 or an amount equal to $1,375 per student participant, whichever is greater, for a project that will serve less than 160 student participants.

• For an applicant who is currently receiving a SSS Program grant the maximum award amount is—the greater of (a) $220,000, or (b) an amount equal to 103 percent of the applicant's prior grant award amount for FY 2003 or FY 2004. For applicant institutions of higher education who received individual grants in the last competition and have since merged into one institution the maximum award amount is—an amount equal to 103 percent of either their combined FY 2003 grant award amounts or their combined FY 2004 grant award amounts, whichever is greater. The Assistant Secretary for Postsecondary Education may increase the maximum grant award to current SSS Program grantees to an amount equal to 105 percent of either their FY 2003 or FY 2004 grant award amount, whichever is greater, without further notice. The Assistant Secretary may increase the maximum grant award to more than 105 percent through a notice published in the Federal Register.

Estimated Number of Awards: 975.

Note: The Department is not bound by any estimates in this notice.

Project Period: Up to 60 months.

III. Eligibility Information

1. Eligible Applicants: Institutions of higher education or combinations of institutions of higher education.

2. Cost Sharing or Matching: Section 402D of the Higher Education Act of 1965, as amended (HEA), requires that all successful applicants that use SSS Program funds for the grant-aid-to-students component must provide matching funds, in cash, from non-Federal funds, in an amount that is not less than 33 percent of the total amount of SSS Program funds used for grant-aid-to-students. This matching requirement does not apply to a grant recipient that is eligible to receive funds under part A or part B of Title III or under Title V of the HEA.

3. Other: An applicant may submit more than one application if each, separate application describes a project that will serve a different campus, as defined in the program regulations, 34 CFR 646.7(c). Also, an applicant may submit more than one application if each, separate application describes a project that will serve a different population of participants: For example, individuals with disabilities, who cannot readily be served by a single project. For each additional application, the applicant must submit a justification as to why the different population of participants cannot be served by a single project.

IV. Application and Submission Information

1. Address to Request Application Package: Deborah I. Walsh or Dorothy Marshall, U.S. Department of Education, 1990 K Street, NW., suite 7000, Washington, DC 20006-8510. Telephone: (202) 502-7600 or by email: TRIO@ed.gov.

If you use a telecommunications device for the deaf (TDD), you may call the Federal Information Relay Services (FIRS) at 1-800-877-8339.

Individuals with disabilities may obtain a copy of the application package in an alternative format (e.g., Braille, large print, audiotape, or computer diskette) by contacting the program contact persons listed in this section.

2. Content and Form of Application Submission: Requirements concerning the content of an application, together with the forms you must submit, are in the application package for this competition. Page Limit: You must limit the narrative part of your application—Part II—First Year Budget Narrative and Part III—Program Narrative—to no more than 75 pages using the following standards:

• A “page” is 8.5″ x 11″, on one side only, with 1″ margins at the top, bottom, and both sides.

• Double space (no more than three lines per vertical inch) all text in the application, including titles, headings, footnotes, quotations, references, and captions; however, you may single space all text in charts, tables, figures, and graphs.

• Use a font that is either 12 point or larger or no smaller than 10 pitch (characters per inch).

The page limit does not apply to Part I, the application face sheet (ED 424); Part I-A, the SSS Program profile and one-page abstract; the budget summary form (ED 524); Parts IV and VI, the assurances and certifications; and Part V, the prior experience form.

No appendices or attachments should be included with the application. If you include any attachments or appendices, these items will be counted as part of the Program Narrative for purposes of the page limit requirement.

We will reject your application if—

• You apply these standards and exceed the page limit; or

• You apply other standards and exceed the equivalent of the page limit.

3. Submission Dates and Times:

Applications Available: July 20, 2004.

Deadline for Transmittal of Applications: August 31, 2004. The dates and times for the transmittal of applications by mail or by hand (including a courier service or commercial carrier) are in the application package for this competition. The application package also specifies the hours of operation of the e-Application Web site.

We do not consider an application that does not comply with the deadline requirements.

Deadline for Intergovernmental Review: September 7, 2004.

4. Intergovernmental Review: This competition is subject to Executive Order 12372 and the regulations in 34 CFR part 79. Information about Intergovernmental Review of Federal Programs under Executive Order 12372 is in the application package for this competition.

5. Funding Restrictions: We specify unallowable costs in 34 CFR 646.31. We reference additional regulations outlining funding restrictions in the Applicable Regulations section of this notice.

6. Other Submission Requirements: Instructions and requirements for the transmittal of applications by mail or by hand (including a courier service or commercial carrier) are in the application package for this competition. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the SSS Program—CFDA Number 84.042A, be submitted electronically using e-Application available through the Department of Education's e-Grants system. The e-Grants system is accessible through its portal page at: http://e-grants.ed.gov.

If you are unable to submit an application through the e-Grants system, you may submit a written request for a waiver of the electronic submission requirement. In your request, you should explain the reason or reasons that prevent you from using the Internet to submit your application. Address your request to: Linda Byrd-Johnson, Ph.D., U.S. Department of Education, 1990 K Street, NW., room 7085, Washington, DC 20006-8510. Please submit your request no later than two weeks before the application deadline date.

If, within two weeks of the application deadline date you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. The SSS Program—CFDA Number 84.042A, is one of the programs included in the pilot project. If you are an applicant under the SSS Program—CFDA Number 84.042A, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2.The institution's Authorizing Representative must sign this form.

3.Place the PR/Award number in the upper right hand corner of the hard copy signature page of the ED 424.

4. Fax the signed ED 424 to the Application Control Center at (202) 245-6272.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under For Further Information Contact (see VII. Agency Contacts) or (2) the e-Grants help desk at 1-888-336-8930.

You may access the electronic grant application for the SSS Program at: http://e-grants.ed.gov.

V. Application Review Information

1. Selection Criteria: The selection criteria for this program competition are in 34 CFR 646.21 and the application package.

Note: Under the “Objectives” selection criterion, 34 CFR 646.21(b), applicants should address the core objectives related to the participants' academic achievements, including retention and graduation. Applicants also should note that objectives must be measured by cohorts of students who become SSS Program participants in each year of the project, and that multi-layered and tiered objectives are not acceptable. The application package contains specific instructions.

2. Review and Selection Process: The Secretary will select an application for funding in rank-order, based on the application's total score for the selection criteria and prior experience, pursuant to 34 CFR 646.20 through 646.22. If there are insufficient funds for all applications with the same total scores, the Secretary will choose among the tied applications so as to serve geographical areas that have been underserved by the SSS Program.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project, you must submit a final performance report including financial information as directed by the Secretary. If you receive a multi-year award, you must submit an annual performance report that provides the most current performance and financial expenditures information as specified by the Secretary in 34 CFR 75.118.

4. Performance Measures: The success of the SSS Program will be measured by the postsecondary persistence and degree completion rates of SSS Program participants that remain at the grantee institution. All SSS Program grantees will be required to submit an annual performance report documenting the persistence and degree attainment of their participants. Since students may take different lengths of time to complete their degrees, multiple years of performance report data are needed to determine the degree completion rates of SSS Program participants. The Department will aggregate the data provided in the annual performance reports from all grantees to determine the accomplishment level.

VII. Agency Contacts

FOR FURTHER INFORMATION CONTACT: Deborah I. Walsh or Dorothy Marshall, U.S. Department of Education, 1990 K Street, NW., suite 7000, Washington, DC 20006-8510. Telephone: (202) 502-7600 or by email: TRIO@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.htm.

Dated: July 2, 2004.
Sally L. Stroup,
Assistant Secretary for Postsecondary Education.

[FR Doc. 04-15471 Filed 7-7-04; 8:45 am]

BILLING CODE 4000-01-P